DEPARTMENT OF ENERGY

Federal Energy Regulatory Commission

Combined Notice of Filings #2

Take notice that the Commission received the following electric corporate filings:

Docket Numbers: EC16-31-000.

Applicants: Slate Creek Wind Project, LLC.

Description: Clarification to November 9, 2015 Application for Authorization under Section 203 of the FPA of Slate Creek Wind Project, LLC.

Filed Date: 12/4/15.

Accession Number: 20151204-5287.

Comments Due: 5 p.m. ET 12/14/15.

Take notice that the Commission received the following exempt wholesale generator filings:

Docket Numbers: EG16-28-000.

Applicants: Javelina Interconnection, LLC.

Description: Notice of Self-Certification of Exempt Wholesale Generator Status of Javelina Interconnection, LLC.

Filed Date: 12/7/15.

Accession Number: 20151207-5121.

Comments Due: 5 p.m. ET 12/28/15.

Take notice that the Commission received the following electric rate filings:

Docket Numbers: ER15-2423-000.

Applicants: Southwest Power Pool, Inc.

Description: Report Filing: 1890R4 Westar Energy, Inc. Refund Report to be effective N/A.

Filed Date: 12/7/15.

Accession Number: 20151207-5095.

Comments Due: 5 p.m. ET 12/28/15.

Docket Numbers: ER15-2433-000.

Applicants: Southwest Power Pool, Inc.

Description: Report Filing: 1897R4 Westar Energy, Inc. Refund Report to be effective N/A.

Filed Date: 12/7/15.

Accession Number: 20151207-5101.

Comments Due: 5 p.m. ET 12/28/15.

Docket Numbers: ER15-2498-000.

Applicants: Southwest Power Pool, Inc.

Description: Report Filing: 2491R3 Westar Energy, Inc. Refund Report to be effective N/A.

Filed Date: 12/7/15.

Accession Number: 20151207-5093.

Comments Due: 5 p.m. ET 12/28/15.

Docket Numbers: ER15-2507-000.

Applicants: Southwest Power Pool, Inc.

Description: Report Filing: 1976R4 Kaw Valley Electric Cooperative Inc. Refund Report to be effective N/A.

Filed Date: 12/7/15.

Accession Number: 20151207-5099.

Comments Due: 5 p.m. ET 12/28/15.

Docket Numbers: ER15-2520-000.

Applicants: Southwest Power Pool, Inc.

Description: Report Filing: 2041R4 Kansas City Board of Public Utilities Refund Report to be effective N/A.

Filed Date: 12/7/15.

Accession Number: 20151207-5097.

Comments Due: 5 p.m. ET 12/28/15.

Docket Numbers: ER15-2679-000.

Applicants: Latigo Wind Park, LLC.

Description: Amendment to September 21, 2015 and October 22, 2015 Latigo Wind Park, LLC tariff filings.

Filed Date: 12/4/15.

Accession Number: 20151204-5301.

Comments Due: 5 p.m. ET 12/14/15.

Docket Numbers: ER16-81-001.

Applicants: Huntley Power LLC.

Description: Tariff Amendment: Amendment to the Application for Reliability Must Run Service to be effective 3/1/2016.

Filed Date: 12/7/15.

Accession Number: 20151207-5183.

Comments Due: 5 p.m. ET 12/28/15.

Docket Numbers: ER16-454-000.

Applicants: Seward Generation, LLC.

Description: Errata to December 3, 2015 Seward Generation, LLC tariff filing.

Filed Date: 12/3/15.

Accession Number: 20151203-5220.

Comments Due: 5 p.m. ET 12/24/15.

Docket Numbers: ER16-472-000.

Applicants: Midcontinent Independent System Operator, Inc.

Description: § 205(d) Rate Filing: 2015-12-07_SA 2866 Northern States Power Company-NWEC T-TIA to be effective 1/1/2016.

Filed Date: 12/7/15.

Accession Number: 20151207-5098.

Comments Due: 5 p.m. ET 12/28/15.

Docket Numbers: ER16-473-000.

Applicants: Midcontinent Independent System Operator, Inc., Great River Energy.

Description: § 205(d) Rate Filing: 2015-12-07_GRE-Amended JPZ RS 28 to be effective 1/1/2016.

Filed Date: 12/7/15.

Accession Number: 20151207-5132.

Comments Due: 5 p.m. ET 12/28/15.

Docket Numbers: ER16-474-000.

Applicants: Central Antelope Dry Ranch C LLC.

Description: Baseline eTariff Filing: Central Antelope Dry Ranch C LLC MBR Tariff to be effective 2/1/2016.

Filed Date: 12/7/15.

Accession Number: 20151207-5167.

Comments Due: 5 p.m. ET 12/28/15.

The filings are accessible in the Commission's eLibrary system by clicking on the links or querying the docket number.

Any person desiring to intervene or protest in any of the above proceedings must file in accordance with Rules 211 and 214 of the Commission's Regulations (18 CFR § 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 7, 2015.
Nathaniel J. Davis, Sr.,
Deputy Secretary.

[FR Doc. 2015-31212 Filed 12-10-15; 8:45 am]

BILLING CODE 6717-01-P